DEPARTMENT OF ENERGY

U.S. Energy Information Administration

Agency Information Collection Proposed Extension

AGENCY: U.S. Energy Information Administration (EIA), Department of Energy (DOE).

ACTION: Notice and request for comments.

SUMMARY: EIA invites public comment on the proposed three-year extension of the following Oil and Gas Reserves System Survey Forms, as required under the Paperwork Reduction Act of 1995; extension without changes of Form EIA-64A, Annual Report of the Origin of Natural Gas Liquids Production; extension without changes of Form EIA-23L, Annual Report of Domestic Oil and Gas Reserves, County Level Report; and continued suspension of Form EIA-23S, Annual Survey of Domestic Oil and Gas Reserves, Summary Level Report.

DATES: EIA must receive all comments on this proposed information collection no later than January 18, 2022. If you anticipate any difficulties in submitting your comments by the deadline, contact the person listed in the ADDRESSES section of this notice as soon as possible.

ADDRESSES: Submit comments electronically to steven.grape@eia.gov or mail comments to Mr. Steven Grape, EI-24, U.S. Department of Energy, 1000 Independence Avenue SW, Washington, DC 20585, or by fax at (202) 586-4420.

FOR FURTHER INFORMATION CONTACT: If you need additional information, contact Mr. Steven Grape, U.S. Energy Information Administration, telephone (202) 586-1868, or by email at steven.grape@eia.gov. The forms and instructions are available on EIA's website at https://www.eia.gov/survey/.

SUPPLEMENTARY INFORMATION: This information collection request contains:

(1) OMB No.: 1905-0057;

(2) Information Collection Request Title: Oil and Gas Reserves System;

(3) Type of Request: Three year extension without changes of the currently approved Form EIA-64A; extension without changes of the currently approved Form EIA-23L; and continued suspension of collection of the currently approved Form EIA-23S (suspended).

(4) Purpose: In response to Public Law 95-91 Section 657, estimates of U.S. oil and gas reserves are to be reported annually. Many U.S. government agencies have an interest in the definitions of proved oil and gas reserves and the quality, reliability, and usefulness of estimates of reserves. Among these are the U.S. Energy Information Administration (EIA), Department of Energy; Bureau of Ocean Energy Management (BOEM), Department of Interior; Internal Revenue Service (IRS), Department of the Treasury; and the Securities and Exchange Commission (SEC). Each of these organizations has specific purposes for collecting, using, or estimating proved reserves. The EIA has a congressional mandate to provide accurate annual estimates of U.S. proved crude oil, natural gas, and natural gas liquids reserves, and EIA presents annual reserves data in EIA Web reports to meet this requirement. The BOEM maintains estimates of proved reserves to carry out their responsibilities in leasing, collecting royalty payments, and regulating the activities of oil and gas companies on Federal waters. Accurate reserve estimates are important, as the BOEM is second only to the IRS in generating Federal revenue. For the IRS, proved reserves and occasionally probable reserves are an essential component of calculating taxes for companies owning or producing oil and gas. The SEC requires publicly traded petroleum companies to annually file a reserves statement as part of their 10-K filing. The basic purpose of the 10-K filing is to give the investing public a clear and reliable financial basis to assess the relative value, as a financial asset, of a company's reserves, especially in comparison to other similar oil and gas companies. The Government also uses the resulting information to develop national and regional estimates of proved reserves of domestic crude oil, natural gas, and natural gas liquids to facilitate national energy policy decisions. These estimates are essential to the development, implementation, and evaluation of energy policy and legislation. Data are used directly in EIA Web reports concerning U.S. crude oil, natural gas, and natural gas liquids reserves, and are incorporated into a number of other Web reports and analyses;

(5) Annual Estimated Number of Respondents: Forms EIA-23L/23S/64A: 1,100;

(6) Annual Estimated Number of Total Responses: Forms EIA-23L/23S/64A: 1,100;

(7) Annual Estimated Number of Burden Hours: 24,800 hours;

Form EIA-23L Annual Survey of Domestic Oil and Gas Reserves, County Level Report: 110 hours (120 large operators); 40 hours (140 medium operators); 15 hours (240 small operators): 22,400 hours

Form EIA-23S Annual Survey of Domestic Oil and Gas Reserves, Summary Level Report: 4 hours (small operators): 0 hours (Currently suspended)

Form EIA-64A Annual Report of the Origin of Natural Gas Liquids Production: 4 hours (600 natural gas plant operators): 2,400 hours

(8) Annual Estimated Reporting and Recordkeeping Cost Burden: $2,024,920 (24,800 burden hours times $81.65 per hour). EIA estimates that respondents will have no additional costs associated with the surveys other than the burden hours and the maintenance of the information during the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; (d) EIA can minimize the burden of the collection of information on respondents, such as automated collection techniques or other forms of information technology; (e) All data items collected on Form EIA-23L are necessary for the proper performance of agency functions, and if not which data items could be removed without affecting practical utility; and (f) The ability to upload the Form EIA-23L data in a standard file format (xlsx, csv, txt, xml, ectc.) would improve data preparation and reduce burden compared to the current process.

Statutory Authority: 15 U.S.C. 772(b) and 42 U.S.C. 7101 et seq.

Signed in Washington, DC, on November, 10, 2021.
Samson A. Adeshiyan,
Director, Office of Statistical Methods and Research, U.S. Energy Information Administration.

[FR Doc. 2021-25025 Filed 11-16-21; 8:45 am]

BILLING CODE 6450-01-P